NEIGHBORHOOD REINVESTMENT CORPORATION

Sunshine Act Meetings

TIME AND DATE: 2:00 p.m., Thursday, December 19, 2024.

PLACE: via ZOOM.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Sunshine Act Approval of Executive (Closed) Session

III. Executive Session: CEO Report

IV. Executive Session: CFO Report

V. Executive Session: General Counsel Report

VI. Executive Session: CIO Report

VII. Executive Session: Community Advisory Council/External Committees

VIII. Executive Session: Officer Performance Metrics

IX. Action Item: Approval of Meeting Minutes for August 13 Audit Committee Meeting, August 15 Regular Board Meeting, September 30 Special Board Meeting, October 16 Special Board Meeting, October 17 Regular Board Meeting, and November 7 Audit Committee Meeting

X. Action Item: Approval of 2024 Delegation of Authority Revision

XI. Action Item: Approval of Revision to the Corporate Bylaw—Tenure Protection of Chief Audit Executive Position

XII. Action Item: Approval of FY2025-2027 Strategic Plan

XIII. Discussion Item: November 7 Audit Committee Meeting Report

XIV. Discussion Item: FY2025 Corporate Scorecard

XV. Discussion Item: Management Program Background and Updates

a. 2025 Board Calendar

b. 2025 Board Agenda Planner

c. CFO Report

i. Financials (through 9/30/24)

ii. Single Invoice Approvals $100K and Over

iii. Vendor Payments $350K and Over

iv. Exceptions

d. Programs Dashboard

e. Housing Stability Counseling Program (HSCP)

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2024-28881 Filed 12-4-24; 4:15 pm]

BILLING CODE 7570-01-P